DEPARTMENT OF HOUSING AND URBAN DEVELOPMENT

[Docket No. FR-7080-N-27]

30-Day Notice of Proposed Information Collection: Submission Requirements for the Capital Advance Program Section 202/811, OMB Control No.: 2502-0470

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: July 22, 2024.

ADDRESSES: Interested persons are invited to submit comments regarding this proposal. Written comments and recommendations for the proposed information collection can be sent within 30 days of publication of this notice to www.reginfo.gov/public/do/PRAMain. Find this particular information collection by selecting “Currently under 30-day Review—Open for Public Comments” or by using the search function. Interested persons are also invited to submit comments regarding this proposal by name and/or OMB Control Number and should be sent to: Colette Pollard, Reports Management Officer, REE, Department of Housing and Urban Development, 451 7th Street SW, Room 8210, Washington, DC 20410-5000; telephone (202) 402-3400 (this is not a toll-free number) or email: PaperworkReductionActOffice@hud.gov.

FOR FURTHER INFORMATION CONTACT: Colette Pollard, Reports Management Officer, REE, Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech and communication disabilities. To learn more about how to make an accessible telephone call, please visit: https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on March 26, 2024 at 89 FR 20995.

A. Overview of Information Collection

Title of Information Collection: Submission Requirements for the Capital Advance Program Section 202/811.

OMB Approval Number: 2502-0470.

OMB Expiration Date: May 31, 2020.

Type of Request: Reinstatement with change of previously approved collection for which approval has expired.

Form Number: HUD-: 2453.1-CA; 2554; 90163-CA; 90163.1-CA; 90164-CA; 90165-CA; 90166-CA; 90166a-CA; 90167-CA; 90169-CA; 90169.1-CA; 90170-CA; 90171-CA; 90172-A-CA; 90172-B-CA; 90173-A-CA; 90173-B-CA; 90173-C-CA; 90173-D-CA; 90176-CA; 90177-CA; 90178-CA; 90179-CA; 91732-A-CA; 92329; 92412-CA; 92433-CA; 92434-CA; 92435-CA; 92450-CA; 92466-CA; 92466.1-CA; 92476-A; 92476-A-CA; 92580-CA; 93432-CA; 93566-CA; 93566.1-CA; and 50080-CAH.

Description of the need for the information and proposed use: This submission covers documents that will permit the continued processing of all Sections 202 and 811 capital advance projects that have not yet reached final closing. For example this submission includes documents for processing of the application for firm commitment to final closing of the capital advance. These documents are needed to assist HUD in determining the Owner's eligibility and capacity to finalize the development of a housing project under the Section 202 and Section 811 Capital Advance Programs. The Office of the Inspector General had also requested additional required certification language. HUD is also adding a new standard form HUD-90173-D to facilitate the renewal of project rental assistance contracts (PRACs). The form HUD-90173-D will reflect long-standing contract amendment language with updates to accommodate availability of both 5-year and annual terms for Section 202 PRACs. The number of annual contract renewal amendments is expected to decrease for each of the next three years as additional properties switch from annual to five-year contracts. The Department also notes that PRAC contract renewal amendments may be executed utilizing DocuSign to obtain owner and HUD staff signatures. Finally, HUD has revised the form HUD-2554 to update contract provisions for Davis-Bacon prevailing wage requirements consistent with changes the Department of Labor (DOL) recently made to regulations at 29 CFR 5.5.

Respondents: Private non-profit 202 and 811 Capital Advance Sponsors, Private non-profit 202 and 811 Capital Advance Owners, and developers of Section 202 and 811 Capital Advance properties.

Estimated Number of Respondents: 5,860. (60 for new projects/5,800 renewing projects).

Estimated Number of Responses: 7,912. (2,112 for new projects/5,800 for renewing projects).

Frequency of Response: Occasion or Annual.

Average Hours per Response: 0.95.

Total Estimated Burden: 7,516.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are respond, including the use of automated collection techniques or other forms of information technology.

HUD encourages interested parties to submit comments in response to these questions.

C. Authority

Section 3507 of the Paperwork Reduction Act of 1995, 44 U.S.C. 3507.

Colette Pollard,
Department Reports Management Officer, Office of Policy Development and Research, Chief Data Officer.

[FR Doc. 2024-13454 Filed 6-18-24; 8:45 am]

BILLING CODE 4210-67-P